ENVIRONMENTAL PROTECTION AGENCY

40 CFR Part 52

[EPA-R05-OAR-2021-0684; FRL-12805-01-R5]

Air Plan Approval; Minnesota; Exempt Source SIP Revision

AGENCY: Environmental Protection Agency (EPA).

ACTION: Proposed rule.

SUMMARY: The Environmental Protection Agency (EPA) is proposing to approve a revision to the Minnesota State Implementation Plan (SIP) which updates Minnesota's air program rules. The Minnesota Pollution Control Agency (MPCA) submitted the request to EPA on October 1, 2021. The revision to Minnesota's air quality rules will reflect changes that have occurred to the State air quality rules since July 2020. EPA is proposing to approve MPCA's submittal, which will result in consistent requirements of rules at both the State and Federal level.

DATES: Comments must be received on or before August 15, 2025.

ADDRESSES: Submit your comments, identified by Docket ID No. EPA-R05-OAR-2021-0684 at http://www.regulations.gov, or via email to damico.genevieve@epa.gov. For comments submitted at Regulations.gov, follow the online instructions for submitting comments. Once submitted, comments cannot be edited or removed from the docket. EPA may publish any comment received to its public docket. Do not submit to EPA's docket at https://www.regulations.gov any information you consider to be Confidential Business Information (CBI), Proprietary Business Information (PBI), or other information whose disclosure is restricted by statute. Multimedia submissions (audio, video, etc.) must be accompanied by a written comment. The written comment is considered the official comment and should include discussion of all points you wish to make. EPA will generally not consider comments or comment contents located outside of the primary submission (i.e. on the web, cloud, or other file sharing system). For additional submission methods, please contact the person identified in the FOR FURTHER INFORMATION CONTACT section. For the full EPA public comment policy, information about CBI, PBI, or multimedia submissions, and general guidance on making effective comments, please visit https://www.epa.gov/dockets/commenting-epa-dockets.

FOR FURTHER INFORMATION CONTACT: Jennifer Darrow, Air and Radiation Division (AR-18J), Environmental Protection Agency, Region 5, 77 West Jackson Boulevard, Chicago, Illinois 60604, (312) 886-6315, darrow.jennifer@epa.gov. The EPA Region 5 office is open from 8:30 a.m. to 4:30 p.m., Monday through Friday, excluding Federal holidays.

SUPPLEMENTARY INFORMATION: Throughout this document whenever “we,” “us,” or “our” is used, we mean EPA.

I. Background

II. Review of State Submittal

III. What action is EPA taking?

IV. Incorporation by Reference

V. Statutory and Executive Order Reviews

I. Background

A. Overview of Revisions Made by Minnesota

On October 1, 2021, MPCA submitted a request for a revision of Minnesota's SIP. The submittal includes amendments to permit rules, clarifications of permit requirements for small sources of air emissions, updates to rules governing small air pollution sources and the addition of four categories of conditionally exempt sources. Minnesota completed a State rulemaking to clarify exempt source and insignificant activities rules in 2019. This proposed SIP revision is intended to codify those amendments to State law in the Minnesota SIP. MPCA previously submitted a similar SIP revision in 2018, and EPA approved the revision on July 27, 2020 (85 FR 45094).

The following chapters of Minnesota's air program rules have undergone revisions: Minnesota Rules Chapter 7005 Definitions and Abbreviations; Chapter 7007 Permits and Offsets; Chapter 7008 Conditionally Exempt Stationary Sources and Conditionally Insignificant Activities; Chapter 7011 Standards for Stationary Sources; and Chapter 7019 Emissions Inventory Requirements. All rule changes were made under the MPCA's rulemaking authority and underwent appropriate public participation procedures as required by State law. EPA proposes to approve the revisions to the Minnesota SIP.

B. Summary of Relevant Statutes

Section 110 of the Clean Air Act (CAA), 42 U.S.C 7410, as amended, requires State and local air pollution control agencies to develop and submit for EPA approval, SIPs that provide for the attainment, maintenance, and enforcement of the NAAQS in each air quality control region (or portion thereof) within each State. Section 110(a) requires an assurance that states' air quality management programs contain the structural components in place to meet the state's responsibilities under the CAA. It also requires that the program attain and maintain the NAAQS.

Section 110(a)(2)(C) of the CAA requires that each SIP include a program to provide for the regulation of construction and modification of stationary sources as necessary to ensure that the NAAQS are achieved. Specific elements for an approvable construction permitting plan are found in the implementing regulations at 40 CFR 51 subpart I—Review of New Sources and Modifications. Requirements relevant to minor construction programs are 40 CFR 51.160-51.163. EPA regulations have several specific criteria for State minor new source review (NSR) programs. Generally, State programs must set forth legally enforceable procedures that allow the State to determine if a planned construction activity would result in a violation of the State's SIP or a national standard and prevent any activity that would. In accordance with 40 CFR 51.162, the State plan must identify the responsible agency for making permitting decisions. 40 CFR 51.160 requires the plan to identify the types and sizes of facilities and installations that are subject to review under the plan, provide that sources undertaking an activity submit adequate information regarding the nature and amounts of emissions to be emitted, as well as information on the location, design construction, and operation of facilities to enable the State to make a determination of whether the planned construction would result in a violation of the SIP or a national standard. 40 CFR 51.161 provides specific criteria for public availability of information and opportunity for public comment. Finally, 40 CFR 51.164 requires the plan to identify the administrative procedures that will be followed in making permitting decisions.

Section 110(l) of the CAA states that a SIP revision cannot be approved if the revision would interfere with any applicable requirements concerning attainment and reasonable further progress toward attainment of a NAAQS or any other applicable requirement of the CAA.

The revisions to the Minnesota SIP are intended to recodify, refine and update Minnesota's air quality rules in the Minnesota SIP, at 40 CFR 52.1220. This SIP revision addresses the requirements of section 110 of the CAA.

II. Review of State Submittal

A. Chapter 7005: Definitions and Abbreviations

Chapter 7005 contains numerous definitions and abbreviations relevant to rules throughout the Minnesota SIP. In Chapter 7005, MPCA amended and added definitions in Minn. R. 7005.0100, to define new terms, clarify definitions, and re-number definitions. EPA finds these revisions approvable because they provide clarity to terms used in various rules throughout the SIP and do not change the requirements of the rules themselves. EPA proposes to approve the revisions to Minn. R. 7005.0100 into the Minnesota SIP.

B. Chapter 7007: Permits and Offsets

Chapter 7007 contains rules concerning permits and offsets and has undergone various changes. Because Chapter 7007 combines the State's preconstruction and operating permit programs into a single permitting program, MPCA uses the broad term “Part 70 permit” to reference several types of permits, including some permits that authorize construction. As used in this action, “Part 70” denotes preconstruction permits, unless otherwise specified as “federal part 70.” This rulemaking is limited solely to approval of revisions to the state's preconstruction permitting program and federally enforceable State operating permit program. This is not a rulemaking under the Federal rules at 40 CFR part 70.

Minn. R. 7007.0300 relates to sources that are not required to obtain a permit under parts 7007.0100 to 7007.1850. Minn. R. 7007.0300 subpart 1, has been revised to remove item D, which provided that stationary sources listed as insignificant activities, sources that are conditionally insignificant activities, or sources that qualify as both insignificant activities and conditionally insignificant activities, are not required to obtain a permit, subject to certain conditions and recordkeeping requirements. The substantive provisions of item D are now a category of conditionally exempt stationary sources found in Minn. R. 7008.2600, “Insignificant Facility; Technical Standards,” which is discussed further below. Therefore, these revisions simply reorganize the provisions and do not change the substance of the rules. EPA proposes to approve the revisions to Minn. R. 7007.0300 into the Minnesota SIP.

Minn. R. 7007.0400 subpart 2 has been revised to change the timeframe for the owner or operator to submit an application for renewal of a Federal part 70 permit. The revision clarifies that a permit will not require a renewal application sooner than 18 months prior to permit expiration. EPA finds these revisions approvable as they align State and Federal permitting rules. EPA proposes to approve the revisions to Minn. R. 7007.0400 into the Minnesota SIP.

Minn. R. 7007.0850 subpart 2 has been revised with changes to the public notice and comment requirements and procedures. The revisions remove the requirements to give public notice in a newspaper of general circulation in the area nearby the source or in the Minnesota State Register and require electronic posting of the public notice for the duration of the comment period on the MPCA's public notice website.

Revisions have been made to the minimum requirements of what must be included in the electronic notice to now include the draft permit and a statement of whether the facility has filed a pollution prevention progress report with the State commissioner. Revisions have also been made to paragraph numbering and to include electronic contact information for interested parties to request additional information. Minn. R. 7007.0850 subpart 3 revises the process to petition for meetings and hearings by removing the option of placing the permit onto the agenda of a MPCA board meeting. EPA finds these revisions approvable as they add requirements to align the rules with Federal permitting requirements and do not relax any previously approved SIP provisions. EPA proposes to approve the revisions to Minn. R. 7007.0850 into the Minnesota SIP.

Minn. R. 7007.1144 subpart 5 has been revised to clarify procedures for public participation for capped permits (“capped” permits are rule-based permits designed for noncomplex facilities that do not require site-specific permit conditions), and removes the option of petitioning for meetings and hearings by placing the permit onto the agenda of a MPCA board meeting. EPA finds these revisions approvable as they do not conflict with any Federal requirement. EPA proposes to approve the revisions to Minn. R. 7007.1144 into the Minnesota SIP.

Minor language changes were made to Minn. R. 7007.1145, 7007.1147, and 7007.1250. EPA finds these revisions approvable as they do not change the substance of the rules. EPA proposes to approve the revisions to Minn. R. 7007.1145, 7007.1147 and 7007.1250 into the Minnesota SIP.

Revisions have been made to the list of insignificant activities in Minn. R. 7007.1300. The changes clarify whether certain activities, and the calculation of emissions from those activities, must be included in an air emissions permit application. Language clarifications related to heat input capacity are added, and certain processing, cleaning and other miscellaneous activities and operations are added to the list of insignificant activities. These revisions also add language to clarify that the thresholds for hazardous air pollutants listed in 7007.1300, subpart 5 are to be utilized in determining whether an emissions unit qualifies as an insignificant activity under 7007.1300, subpart 4. The intent of the insignificant activities list is to streamline the permit application process by specifying those activities whose emissions are trivial or short-term by their very nature, or activities that fall below a certain size/production rate, and therefore require minimal regulatory oversight. As part of these rule revisions, the MPCA evaluated each of the activities added or moved and their associated emissions. Activities that were added or moved were based on MPCA's estimates of emissions or examples provided by EPA of activities states could add to their insignificant activities list. While the activities listed may have emissions, the rule changes themselves are not expected to change/increase emissions as they do not authorize stationary sources to bypass any other regulations or permitting requirements. Stationary sources that add new insignificant activities are still required to determine whether the change or modification requires a permit amendment or notice to MPCA. EPA finds these revisions approvable as they provide clarity and do not change the stringency of the rule. EPA proposes to approve the revisions to Minn. R. 7007.1300 into the Minnesota SIP.

C. Chapter 7008: Conditionally Exempt Stationary Sources and Conditionally Insignificant Activities

Chapter 7008 provides the conditions under which stationary sources are exempt from the requirement to apply for and obtain an air emission permit as provided for under Minn. R. 7007.0300. In the Chapter 7008 rule revisions, MPCA expands the conditionally exempt source categories to include auto-body refinishing facilities, coating facilities, woodworking facilities, and insignificant facilities. It establishes a permit by rule approach for these source categories that does not relax air quality standards. The revisions in Chapter 7008 specify applicable emission limitation and control requirements, operational restrictions and monitoring, recordkeeping, and other requirements in a similar manner to a traditional permit. The revisions outline the conditions under which stationary sources are exempt from the requirement to apply for and obtain an air emission permit as provided for under Minn R. 7007.0300. Chapter 7008 requires sources who claim their operations are conditionally exempt or conditionally insignificant to maintain records that demonstrate eligibility with the rule.

Minn. R. 7008.0100 has been revised to renumber several subparts and adds definitions pertinent to this category of conditionally exempt stationary sources and conditionally insignificant activities. EPA finds these revisions approvable as they provide clarity and do not change the stringency of the rule. EPA proposes to approve the revisions to Minn. R. 7008.0100 into the Minnesota SIP.

Minn. R. 7008.0200 establishes general requirements for conditionally exempt stationary sources and conditionally insignificant activities. This part has been revised to add a new item F. Item F has been added to clarify to owners and operators that if there is a change at the facility that affects the amount or type of air pollutants the facility emits, the owner or operator must determine whether a permit is needed and follow the permitting requirements at Minn. R. 7007.0400, subpart 4. EPA finds these revisions approvable as they strengthen current requirements in the SIP. EPA proposes to approve the revisions to Minn. R. 7008.0200 into the Minnesota SIP.

Minn. R. 7008.2100, subpart 1 identifies the eligibility requirements for the owner or operator of a gasoline service station to operate without a permit under chapter 7008. The requirements of this subpart have been renumbered. New item A, in subpart 1, revises existing rule language to clarify who is responsible for compliance with the rule and corrects the reference to the general requirements in Minn. R. 7008.2000, not Minn. R. 7008.0200. Subpart 1, item A has also been revised to remove the term “general operating” as a qualifier in front of requirements. The revisions also refer to the eligibility requirements in Minn. R. 7008.2000 rather than the general requirements of Minn. R. 7008.0200. New item B revises existing rule language to identify the correct rule citation for insignificant activities and conditionally insignificant activities. This revision provides clarification to the owner or operator that emissions from the gasoline service station must be from insignificant activities or conditionally insignificant activities, or both, in order to operate without a permit. Subpart 3, Notification, is revised to establish the requirements for notification when an owner or operator begins construction of a gasoline service station. The revisions also remove obsolete rule language that referred to a transition period for the original implementation of the rules. EPA finds these revisions approvable as they correct, clarify and strengthen current requirements in the SIP. EPA proposes to approve the revisions to Minn. R. 7008.2100 into the Minnesota SIP.

Minn. R. 7008.2200, subpart 1 identifies the eligibility requirements for the owner or operator of a concrete manufacturing stationary source to operate without a permit under chapter 7008. Subpart 1 has been revised to correct the reference to the general requirements in Minn. R. 7008.2000, not Minn. R. 7008.0200. Revisions also include the addition of a new subpart 6 with recordkeeping requirements for concrete manufacturing stationary sources. The recordkeeping requirements in Minn. R. 7008.2250 are proposed for repeal and are moved to a new subpart 6, items A through D. This change consolidates all requirements for concrete manufacturing stationary sources in one rule part. The revisions also modify language of existing recordkeeping requirements but does not change the content of the requirements. The revisions provide consistent language across the different conditionally exempt source categories. EPA finds these revisions approvable as they clarify and strengthen current requirements in the SIP. EPA proposes to approve the revisions to Minn. R. 7008.2200 into the Minnesota SIP.

Minn. R. 7008.2250 is proposed for repeal. This part provided recordkeeping requirements for concrete manufacturing plants. These requirements are moved to new subpart 6 in part 7008.2200. This consolidates and clarifies the rule so owners and operators can more easily locate, understand and comply with the recordkeeping requirements for concrete manufacturing plants. EPA finds these revisions approvable as they clarify current requirements in the SIP. EPA proposes to approve the revisions that repeal Minn. R. 7008.2250 from the Minnesota SIP.

Minnesota has created four new categories of conditionally exempt sources: Minn. R. 7008.2300 (auto-body refinishing); Minn. R. 7008.2400 (coating facilities); Minn. R. 7008.2500 (woodworking facilities); and Minn. R. 7008.2600 (insignificant facilities). For each of the new source categories, the rule amendments establish technical standards, operational and recordkeeping requirements that control and monitor air emissions in a similar manner to conditions that would be found in a site-specific, low-emitting facility permit.

Minn. R. 7008.2300 establishes technical standards for an owner or operator of an auto-body refinishing facility, by which the source may be exempt from an air emissions permit. Subpart 1 establishes the eligibility requirements for an auto-body refinishing facility to operate without a permit under chapter 7008, including limitations on activities and types of equipment allowed, to ensure there are no other significant sources of emissions at the source that would otherwise require an air emissions permit. Revisions also establish the maximum amount of coating and cleaning materials that an auto-body refinishing facility can purchase or use each calendar year to be eligible to operate without a permit under this subpart. The limit is set at 2,000 gallons each calendar year. Subparts 2, 3 and 4 establish operational, recordkeeping and notification requirements.

Minn. R. 7008.2400 establishes technical standards for an owner or operator of a coating facility, that is not an auto-body refinishing facility, by which the source may be exempt from an air emissions permit. Subpart 1 establishes the eligibility requirements for a coating facility to operate without a permit under chapter 7008, including limitations on activities and types of equipment allowed, to ensure there are no other significant sources of emissions at the source that would otherwise require an air emissions permit. Revisions also establish a limit of 2,000 gallons per calendar year of coating and cleaning material usage to be eligible to operate without a permit under this subpart. Subparts 2, 3 and 4 establish operational, recordkeeping and notification requirements.

Minn. R 7008.2500 establishes technical standards for an owner or operator of a woodworking facility, by which the source may be exempt from an air emissions permit. Subpart 1 establishes the eligibility requirements for a woodworking facility to operate without a permit under chapter 7008, including limitations on activities and types of equipment allowed, to ensure there are no other significant sources of emissions at the source that would otherwise require an air emissions permit. Subparts 2, 3 and 4 establish operational, control and notification requirements. Subpart 3 establishes five control options that restrict emissions to below the State permitting thresholds for PM and PM10.

Minn R. 7008.2600 establishes a new exempt category for stationary sources that have only insignificant and conditionally insignificant activities. To ensure that the presence of insignificant activities does not exceed a permitting threshold, the rule revision expands and clarifies the conditions that must be met by a stationary source with only insignificant and conditionally insignificant activities by adding conditions that make the technical requirements federally enforceable. Subpart 1 establishes eligibility requirements for an insignificant facility to operate without a permit under chapter 7008 by specifying the insignificant activities and conditionally insignificant activities that qualify and limits the number of emission units such that potential emissions do not exceed the listed permitting thresholds. Subparts 2 and 3 establish operational and recordkeeping requirements to qualify under this category. Subparagraph 4 requires the owner or operator of an insignificant facility to calculate emissions to determine eligibility.

The minor NSR provisions at 40 CFR 51.160 require State programs to determine whether activities would violate an applicable SIP or national standard and to prevent construction of an activity that would violate an applicable SIP provision or national standard. The new provisions exempt certain eligible stationary sources from air permitting requirements. When determining adequacy of State rules, EPA is concerned with the possibility that an exemption might allow an activity that should be subject to major source permitting requirements to escape appropriate review and permitting, that sources are required to maintain information adequate for the State to ensure that exemptions have been applied appropriately, and that the exemptions would not interfere with any applicable requirement concerning attainment and reasonable further progress, or any other applicable requirement of the CAA.

Minnesota Chapter 7008 provides limitations on the use of the specific exemptions in Minn. R. 7008.0050-7008.4110 and requires sources using the exemptions to maintain certain records to demonstrate that the exemptions have been applied appropriately. Specific conditionally exempt sources may be required to implement additional monitoring and recordkeeping as required to ensure that the equipment is operating as required under the exemption. Section 110(l) of the CAA states that a SIP revision cannot be approved if the revision would interfere with any applicable requirement concerning attainment and reasonable further progress toward attainment of a NAAQS or any other applicable requirement of the CAA. These conditionally exempt sources are expected to yield very low levels of actual emissions of regulated pollutants and are not expected to interfere with attainment and maintenance of the NAAQS. The rules also do not interfere with any other applicable requirement of the CAA, including the applicability of other SIP requirements, and those found in the New Source Performance Standards and the National Emission Standards for Hazardous Air Pollutants (NESHAPs). Therefore, EPA proposes to approve the revisions to Minn. R. 7008.2300, 7008.2400, 7008.2500, and 7008.2600.

The revisions to Minn R. 7008.4000 expand and clarify the conditions that must be met by insignificant and conditionally insignificant activities and are intended to improve the enforceability of restrictions on potential to emit for conditionally insignificant activities. This part is further revised to require that calculations from the activities described in parts 7008.4100 and 7008.4110 must be provided in a permit application for a part 70 permit or an amendment to a part 70 permit. EPA finds these revisions approvable as they strengthen current requirements in the SIP. EPA proposes to approve the revisions to Minn. R. 7008.4000.

The title of Minn. R. 7008.4100 is revised to “Conditionally Insignificant Activity: Material Usage” in order to provide clarification that the activities described are a conditionally insignificant activity. Revisions have been made in this part to the material usage emissions limits of volatile organic compounds (VOC) that qualify as an insignificant activity under this rule. Thresholds of eligibility for VOC emissions have been increased from less than 2,000 pounds to less than 10,000 pounds, and VOC-containing material usage limits have increased from less than 200 gallons to less than 1,000 gallons per calendar year. The limits have been increased to provide flexibility to owners and operators of stationary sources that have material usage that qualifies as a conditionally insignificant activity. It is estimated that this rule change would potentially result in maximum emissions of a single volatile HAP by no more than 5 tons per calendar year per source, which corresponds to 50% of the major source HAP threshold defined by the CAA section 112.

The rule also removes accounting of PM10 and PM2.5 separately from particulate matter when calculating emissions for annual calculations. The calculation for particulate matter emissions in this part of the rule is based on the solids content (in lbs/gal or weight%) of the material used. Because the data used for this calculation is not specific to each pollutant (PM, PM10, and PM2.5), deleting the reference to PM10 and PM2.5 simplifies the emission limit and provides consistency across the requirements in Minn. R. 7008.4100 that govern conditionally insignificant material usage.

Subparts 4 and 5 of this rule revise calculation requirements for VOC and particulate matter and add the ability to include control and transfer efficiencies in calculating particulate matter emissions under certain circumstances as allowed under Minn. R. 7011.

The revisions of Minn. R. 7008.4100 are consistent with CAA section 110(l). These revisions are expected to yield very low levels of actual emissions of regulated pollutants and are not expected to interfere with attainment and maintenance of the NAAQS. The revisions also do not interfere with any other applicable requirement of the CAA, including the applicability of other SIP requirements, and those found in the New Source Performance Standards and the National Emission Standards for Hazardous Air Pollutants (NESHAPs). As such, EPA proposes to approve the revisions to Minn. R. 7008.4100.

The title of Minn. R. 7008.4110 has been revised to “Conditionally Insignificant Activity; Finishing Operations.” The revision provides clarification that the activities described are a conditionally insignificant activity. The revision also establishes requirements specific to stationary sources that claim mechanical finishing operations emitting PM as a conditionally insignificant activity. The revisions further clarify that any activity emitting any other pollutant in addition to PM does not qualify under this part, including lead emissions.

Revisions are also made to identify the qualifications for mechanical finishing operations to be considered a conditionally insignificant activity. Revisions to subpart 2 add “mechanical finishing operations” and remove the example finishing activities (e.g., buffing, polishing, carving, etc.) previously listed in the SIP. Subpart 2 is also revised to remove the requirement that emissions must be vented inside a building 100% of the time and filtered through an air cleaning system, adds control requirements for particulate emissions and limits particulate matter emissions from mechanical finishing operations to less than 10,000 pounds per calendar year.

Clarifying language is added to specify that the limit applies to all finishing operation activities at the stationary source. This revision disallows multiple activities that might qualify independently as conditionally insignificant finishing operations to exceed the emission limit when aggregated. Subparts 3 and 4 of the rule clarify language and add monitoring, recordkeeping and calculation requirements for sources subject to this subpart. EPA finds these revisions approvable as they strengthen current requirements in the SIP. EPA proposes to approve the revisions to Minn. R. 7008.4110.

C. Chapter 7011: Standards for Stationary Sources

Minn. R. 7011.0561 makes minor revisions to language, changing the title from “Control of mercury from electric generating units” to “Controlling mercury from electric generating units” and removes a reference to Minnesota Statutes, section 216B.687, subdivision 3. EPA finds these revisions approvable as they are minor language changes that do not affect the requirements of the rule. EPA proposes to approve Minn. R. 7011.0561.

Minn. R. 7011.1201 revises a statutory reference for the definition of refuse-derived fuel. EPA finds these revisions approvable as they do not change the applicability of the rule. EPA proposes to approve Minn. R. 7011.1201.

Minn. R. 7011.2300 makes minor language revisions and allows for an alternative sulfur dioxide limit in a permit or other enforceable document that models compliance with Minn. R. 7009.0090, the National Ambient Air Quality Standards as they are incorporated by reference into Minnesota's rules. EPA finds these revisions approvable as they are minor language changes that do not affect the requirements of the rule and strengthen current requirements in the SIP. EPA proposes to approve Minn. R. 7011.2300.

A. Chapter 7019: Emissions Inventory Requirements

Minn. R. 7019.3020 has been revised to change the words “shall” to “must” and renumbers a reference to subpart “J” to “G”. EPA finds these revisions approvable as they are minor language changes that do not affect the requirements of the rule. EPA proposes to approve Minn. R. 7019.3020 into the Minnesota SIP.

As part of this submittal, Minnesota is also requesting that rule 7023 be removed from the SIP. This rule is obsolete given the November 2019 expiration of the carbon monoxide maintenance area.

III. What action is EPA taking?

EPA is proposing to approve MPCA's October 1, 2021, submittal, as a revision to its existing SIP.

IV. Incorporation by Reference

In this rule, EPA is proposing to include in a final EPA rule regulatory text that includes incorporation by reference. In accordance with requirements of 1 CFR 51.5, EPA is proposing to incorporate by reference revisions to Minnesota Rules Chapter 7005 Definitions and Abbreviations; Chapter 7007 Permits and Offsets; Chapter 7008 Conditionally Exempt Stationary Sources and Conditionally Insignificant Activities; Chapter 7011 Standards for Stationary Sources; and Chapter 7019 Emissions Inventory Requirements, as discussed in sections I. and II. of this preamble. EPA has made, and will continue to make, these documents generally available through www.regulations.gov and at the EPA Region 5 Office (please contact the person identified in the FOR FURTHER INFORMATION CONTACT section of this preamble for more information).

V. Statutory and Executive Order Reviews

Under the CAA, the Administrator is required to approve a SIP submission that complies with the provisions of the CAA and applicable Federal regulations. 42 U.S.C. 7410(k); 40 CFR 52.02(a). Thus, in reviewing SIP submissions, EPA's role is to approve State choices, provided they meet the criteria of the CAA. Accordingly, this action merely approves State law as meeting Federal requirements and does not impose additional requirements beyond those imposed by State law. For that reason, this action:

• Is not a significant regulatory action subject to review by the Office of Management and Budget under Executive Order 12866 (58 FR 51735, October 4, 1993);

• Is not subject to Executive Order 14192 (90 FR 9065, February 6, 2025) because SIP actions are exempt from review under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not subject to Executive Order 13045 (62 FR 19885, April 23, 1997) because it approves a State program;

• Is not a significant regulatory action subject to Executive Order 13211 (66 FR 28355, May 22, 2001); and

• Is not subject to requirements of Section 12(d) of the National Technology Transfer and Advancement Act of 1995 (15 U.S.C. 272 note) because application of those requirements would be inconsistent with the CAA;

In addition, the SIP is not approved to apply on any Indian reservation land or in any other area where EPA or an Indian Tribe has demonstrated that a Tribe has jurisdiction. In those areas of Indian country, the rulemaking does not have Tribal implications and will not impose substantial direct costs on Tribal governments or preempt Tribal law as specified by Executive Order 13175 (65 FR 67249, November 9, 2000).

List of Subjects in 40 CFR Part 52

Environmental protection, Air pollution control, Carbon monoxide, Incorporation by reference, Intergovernmental relations, Lead, Nitrogen oxides, Ozone, Particulate matter, Reporting and recordkeeping requirements, Sulfur oxides, Volatile organic compounds.

Dated: June 30, 2025.
Anne Vogel,
Regional Administrator, Region 5.

[FR Doc. 2025-13327 Filed 7-15-25; 8:45 am]

BILLING CODE 6560-50-P